DEPARTMENT OF HEALTH AND HUMAN SERVICES

Centers for Disease Control and Prevention

Government-Owned Inventions: Availability for Licensing

AGENCY: National Institute for Occupational Safety and Health, Centers for Disease Control and Prevention. Technology Transfer Office, Department of Health and Human Services.

ACTION: Notice.

SUMMARY: The invention named in this notice is owned by agencies of the United States Government and is available for licensing in the United States (U.S.) in accordance with 35 U.S.C. 207, to achieve expeditious commercialization of results of federally funded research and development. This opportunity is available until 30 days after publication of this notice. Respondents may be provided a longer period of time to furnish additional information if CDC/NIOSH finds this necessary.

ADDRESSES: Licensing information may be obtained by contacting Thomas O'Toole, Chief Licensing Officer, Technology Transfer Office, Centers for Disease Control and Prevention (CDC), Mailstop K-79, 4770 Buford Highway, Atlanta, GA 30341, telephone (770) 488-8600; facsimile (770) 488-8615. Information related to the listed technology, may be obtained by contacting Eric Zahl, Civil Engineer, Spokane Research Laboratory, National Institute for Occupational Safety and Health (NIOSH), Centers for Disease Control and Prevention (CDC), 315 E. Montgomery Avenue, Spokane, WA 99207, telephone (509) 354-8020; or e-mail EZahl@cdc.gov.

Occupational Safety Device—Mobile Manipulator System (MMS): NIOSH researchers have developed a Mobile Manipulator System (MMS), a prototype lifting device that enables one person to lift and maneuver up to 600 pound loads. The MMS is a utility device, designed to reduce lifting accidents among maintenance personnel associated with the manual handling of equipment and materials. Prototype specifications, capabilities, photos, video clips, and further details may be viewed online at http://www.cdc.gov/niosh/mining/products/product147.htm.

CDC/NIOSH is seeking licensing partner(s) to refine development of this system and commercialize the final product. Preferred partners should have a strong market share and a demonstrated business network capable of effective dissemination and customer support for the final product. Partners should also have: (1) Expertise in developing safe and effective material handling equipment for the U.S. markets and (2) evidence of manufacturing similar types of equipment for wide-spread distribution throughout U.S. markets in an expeditious manner.

Companies interested in the opportunity should submit a proposal of five pages or less to: Eric Zahl, Civil Engineer, Spokane Research Laboratory, National Institute for Occupational Safety and Health (NIOSH), Centers for Disease Control and Prevention (CDC), 315 E. Montgomery Avenue, Spokane, WA 99207, telephone (509) 354-8020; or e-mail EZahl@cdc.gov.

Inventors: Clark, Curtis.

U.S. Patent Application SN: 10/485,706 filed 2/2/2004 and PCT/US02/24542.

(CDC Ref. #: I-018-01 & I-029-05)

Dated: July 31, 2006.
James D. Seligman,
Chief Information Officer, Centers for Disease Control and Prevention.

[FR Doc. E6-12734 Filed 8-4-06; 8:45 am]

BILLING CODE 4163-18-P